DEPARTMENT OF THE INTERIOR

National Park Service

Notice of Intent to Repatriate Cultural Items: U.S. Department of the Interior, National Park Service, Chaco Culture National Historical Park, Nageezi, NM

AGENCY: National Park Service, Interior.

ACTION: Notice.

Notice is here given in accordance with the Native American Graves Protection and Repatriation Act (NAGPRA), 25 U.S.C. 3005, of the intent to repatriate cultural items in the possession of the U.S. Department of the Interior, National Park Service, Chaco Culture National Historical Park, Nageezi, NM, that meet the definition of “sacred objects” under 25 U.S.C. 3001.

This notice is published as part of the National Park Service's administrative responsibilities under NAGPRA, 25 U.S.C. 3003 (d)(3). The determinations in this notice are the sole responsibility of the superintendent, Chaco Culture National Historical Park.

The cultural items are part of a bundle that includes the following: 1 small hide bundle tied with a leather strip; 3 small hide pouches tied with yucca cordage; 1 tanned rodent hide; 6 hide fragments; 2 shell beads; 5 quartz crystals; 1 calcite cylinder; 2 steatite cylinders; 4 chert flakes; 1 chert scraper; 2 reed fragments; more than 44 fragments of unidentified plants, roots, and sticks; 1 piece of cotton fabric; 4 fragments of limonite; 1 yucca quid; 14 yucca cordage fragments; 1 hank of untwisted yucca; 3 yucca cordage fragments strung with 31 stone beads; 1,890 small stone beads; 75 squash seeds; 1 corn cob, with kernels, two-thirds of which is wrapped with cotton cordage; 3 projectile points; 1 stone knife; 3 gourd rind fragments; 1 bone awl; 1 strand of yucca cordage with 33 shell beads, 1 turquoise pendant, 1 turquoise bead, 1 bone bead; 1 deciduous human tooth; 3 shaped quartz crystals tied with sinew; 1 drilled bivalve fossil; 1 drilled hematite nodule with a fragment of leather; 4 hematite nodules; 2 petrified wood nodules; 1 turquoise nodule; 1 unidentified mineral nodule; 1 hollow tube concretion; and 20 fragments of an unidentified gray mineral.

The items were received by Chaco Culture National Historical Park via delivery service on September 25, 2000, without an accompanying letter or note. It was later determined that the person named on the return address is deceased. The park has no information regarding the origin of the items or their age. The only information available is that the deceased requested that his heirs send the items to Chaco Culture National Historical Park. The park archeologist determined the items may have come from a container, a sealed room, or a dry cave.

In May 2004, the park's museum technician determined that the items may have been part of a medicine bundle that would meet the NAGPRA definition of sacred object. On July 27, 2004, the park consulted with representatives of the Hopi Tribe of Arizona; Navajo Nation, Arizona, New Mexico, & Utah; Pueblo of Acoma, New Mexico; Pueblo of Cochiti, New Mexico; Pueblo of Isleta, New Mexico; Pueblo of Laguna, New Mexico; Pueblo of Nambe, New Mexico; Pueblo of San Ildefonso, New Mexico; Pueblo of Santa Ana, New Mexico; Pueblo of Taos, New Mexico; Pueblo of Zia, New Mexico; and the Zuni Tribe of the Zuni Reservation, New Mexico. On July 29, 2004, the park corresponded with representatives of the Jicarilla Apache Nation, New Mexico; Pueblo of Jemez, New Mexico; Pueblo of Picuris, New Mexico; Pueblo of Pojoaque, New Mexico; Pueblo of San Felipe, New Mexico; Pueblo of San Juan, New Mexico; Pueblo of Sandia, New Mexico; Pueblo of Santa Clara, New Mexico; Pueblo of Santo Domingo, New Mexico; Pueblo of Tesuque, New Mexico; Southern Ute Indian Tribe of the Southern Ute Reservation, Colorado; Ute Mountain Tribe of the Ute Mountain Reservation, Colorado, New Mexico, and Utah; and Ysleta Del Sur Pueblo of Texas. Representatives from the Navajo Nation of Arizona, New Mexico, and Utah; Pueblo of Laguna, New Mexico; Pueblo of San Ildefonso, New Mexico; Pueblo of Taos, New Mexico; and Pueblo of Zia, New Mexico visited the park's museum collection to view the items. Representatives of the Hopi Tribe of Arizona and Pueblo of Acoma, New Mexico requested and received digital photographs of the items.

In the Southwest, archeological evidence of medicine bundles appears limited to Basketmaker phase cave sites (A.D. 1-700), where organic material such as animal skins, feathers, and plant material have been preserved from the elements. The contents of these bundles, which are often made of prairie dog skin, include projectile points, shell pendants, stringed shell and turquoise beads, crystals, hematite, feathers, azurite, malachite, limonite, squash seeds, plant materials, bone and wood dice, stone beads, and fossilized teeth. Frequently, individual items, particularly paints such as hematite and limonite and beads, were placed in smaller animal skin pouches tied with sinew or cordage within the larger bundle.

Navajo medicine bundles, like Puebloan bundles, are made of perishable materials such as skin, cloth, yarn, feathers, reeds and other vegetal material. Consultation with representatives of the Navajo Nation, Arizona, New Mexico, & Utah established that the bundle described in this notice is not of Navajo origin.

Representatives of the Pueblo of Zia, New Mexico identified the 2,173 cultural items as ceremonial objects needed for the practice of traditional religion. They identified the bundle as one of the bundles kept by Pueblo of Zia medicine men who use the objects as part of their healing ceremonies and preparation of prayer sticks associated with solstice offerings. The contents of Zia medicine bundles are usually kept individually in small hide pouches tied with leather or yucca cords, which in turn are kept in larger bundles. Small quartz crystals, minerals, beads, flakes and seeds are commonly used to adorn and paint prayer sticks.

Officials of Chaco Culture National Historical Park have determined that, pursuant to 25 U.S.C. 3001 (3)(C), the cultural items are specific ceremonial objects needed by traditional Native American religious leaders for the practice of traditional Native American religions by their present-day adherents. Officials of Chaco Culture National Historical Park also have determined that, pursuant to 25 U.S.C. 3001 (2), there is a relationship of shared group identity that can be reasonably traced between the sacred objects and the Pueblo of Zia, New Mexico.

Representatives of any other Indian tribe that believes itself to be culturally affiliated with the sacred objects should contact Dennis Carruth, acting superintendent, Chaco Culture National Historical Park, Post Office Box 220, Nageezi, NM 87037, telephone (505)786-7014, before July 1, 2005. Repatriation of the sacred objects to the Pueblo of Zia, New Mexico may proceed after that date if no additional claimants come forward.

Chaco Culture National Historical Park is responsible for notifying the Hopi Tribe of Arizona; Jicarilla Apache Nation, New Mexico; Navajo Nation, Arizona, New Mexico, & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico, and Utah; Ysleta Del Sur Pueblo of Texas; and Zuni Tribe of the Zuni Reservation, New Mexico that this notice has been published.

Dated: May 20, 2005
Paul Hoffman,
Deputy Assistant Secretary, Fish and Wildlife and Parks.

[FR Doc. 05-10812 Filed 5-31-05; 8:45 am]

BILLING CODE 4312-50-S